DEPARTMENT OF TRANSPORTATION

Federal Railroad Administration

[Docket Number FRA-2010-0029]

National Railroad Passenger Corporation's Request for Positive Train Control Safety Plan Approval and System Certification

AGENCY: Federal Railroad Administration (FRA), U.S. Department of Transportation (DOT).

ACTION: Notice of availability and request for comments.

SUMMARY: This document provides the public with notice that on August 9, 2018, the National Railroad Passenger Corporation (Amtrak) submitted its Positive Train Control Safety Plan (PTCSP) Revision 0, dated July 17, 2018, to FRA via the Secure Information Repository. Amtrak asks FRA to approve its PTCSP and issue a Positive Train Control System Certification for Amtrak's Interoperable Electronic Train Management System (I-ETMS).

DATES: FRA will consider comments received by January 28, 2019 before taking final action on the PTCSP. FRA may consider comments received after that date if practicable.

ADDRESSES: All comments concerning this proceeding should identify Docket Number FRA-2010-0029 and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

FOR FURTHER INFORMATION CONTACT: Ms. Carolyn Hayward-Williams, Staff Director, Positive Train Control/Signal & Train Control Division, at 202-493-6399 or c.hayward-williams@dot.gov.

SUPPLEMENTARY INFORMATION: In its PTCSP, Amtrak asserts that the I-ETMS system it is implementing is designed as an overlay PTC system as defined in Title 49 Code of Federal Regulations (CFR) 236.1015(e). The PTCSP describes Amtrak's I-ETMS implementation and the associated I-ETMS safety processes, safety analyses, and test, validation, and verification processes used during the development of I-ETMS. The PTCSP also contains Amtrak's operational and support requirements and procedures.

Amtrak's PTCSP and the accompanying request for approval and system certification are available for review online at www.regulations.gov (Docket Number FRA-2010-0029) and in person at DOT's Docket Operations Facility, 1200 New Jersey Avenue SE, W12-140, Washington, DC 20590. The Docket Operations Facility is open from 9 a.m. to 5 p.m., Monday through Friday, except Federal holidays.

Interested parties are invited to comment on the PTCSP by submitting written comments or data. During its review of the PTCSP, FRA will consider any comments or data submitted. 49 CFR 236.1011(e). However, FRA may elect not to respond to any particular comment and, under 49 CFR 236.1009(d)(3), FRA maintains the authority to approve or disapprove the PTCSP at its sole discretion.

Privacy Act Notice

In accordance with 49 CFR 211.3, FRA solicits comments from the public to better inform its decisions. DOT posts these comments, without edit, including any personal information the commenter provides, to www.regulations.gov, as described in the system of records notice (DOT/ALL-14 FDMS), which can be reviewed at https://www.transportation.gov/privacy. See https://www.regulations.gov/privacyNotice for the privacy notice of regulations.gov. In order to facilitate comment tracking, we encourage commenters to provide their name, or the name of their organization; however, submission of names is completely optional. If you wish to provide comments containing proprietary or confidential information, please contact FRA for alternate submission instructions.

Issued in Washington, DC, on December 21, 2018.
Robert C. Lauby,
Associate Administrator for Railroad Safety, Chief Safety Officer.

[FR Doc. 2018-28317 Filed 12-27-18; 8:45 am]

BILLING CODE 4910-06-P